DEPARTMENT OF THE TREASURY

Office of Thrift Supervision

[AC-14: OTS No. H4431]

North Penn Bank, North Penn Mutual Holding Company, North Penn Bancorp, Inc., and New North Penn Bancorp, Inc., Scranton, PA; Approval of Conversion Application

Notice is hereby given that on August 10, 2007, the Office of Thrift Supervision (OTS) approved the application of North Penn Mutual Holding Company and North Penn Bank, Scranton, Pennsylvania, to convert to the stock form of organization. Copies of the application are available for inspection by appointment (phone number: 202-906-5922 or e-mail: Public.Info@OTS.Treas.gov) at the Public Reading Room, 1700 G Street, NW., Washington, DC 20552, and OTS Northeast Regional Office, Harborside Financial Center, Plaza Five, Suite 1600, Jersey City, NJ 07311.

Dated: August 14, 2007.
By the Office of Thrift Supervision.
Sandra E. Evans,
Legal Information Assistant.

[FR Doc. 07-4040 Filed 8-17-07; 8:45 am]

BILLING CODE 6720-01-M